DEPARTMENT OF HEALTH AND HUMAN SERVICES

Centers for Disease Control and Prevention

[60Day-10-0636]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including the use of automated collection techniques or other forms of information technology. Written comments should be received within 60 days of this notice.

Proposed Project

Centers for Disease Control and Prevention (CDC) Secure Communications Network (Epi-X) (OMB No. 0929-0636 exp. 12/31/2010)—Revision—Office of Public Health Preparedness and Response (OPHPR), Centers for Disease Control and Prevention (CDC).

Background and Brief Description

The classification of this Information Collection (IC) is a revision of the State-Based Evaluation of the Alert Notification Component of CDC's Secure Communication Network (Epi-X) OMB Control No. 0920-0636.

This IC is being revised to improve the effectiveness of CDC communications with its public health partners during public health incident responses. These partners include public health officials and agencies at the State and local level.

From 2005-2009, CDC conducted incident specific, public health emergency response operations on average of four public health incidents a year with an average emergency response length of 48 days for each incident. The effectiveness and efficiency of CDC's response to any public health incident depends on information at the agency's disposal to characterize and monitor the incident, make timely decisions, and take appropriate actions to prevent or reduce the impact of the incident.

Available information during many public health incident responses is often incomplete, is not easily validated by State and local health authorities, and is sometimes conflicting. This lack of reliable information often creates a high level of uncertainty with potential negative impacts on public health response operations.

Secure communications with CDC's State and local public health partners is essential to de-conflict information, validate incident status, and establish and maintain accurate situation awareness. Reliable, secure communications are essential for the agency to make informed decisions, and to respond in the most appropriate manner possible in order to minimize the impact of an incident on the public health of the United States.

Epi-X is CDC's Web-based communication system for securely communicating during public health emergencies that have multi-jurisdictional impact and implications. Epi-X was specifically designed to provide public health decision-makers at the State and local levels a secure, reliable tool for communicating information about sensitive, unusual, or urgent public health incidents to neighboring jurisdictions as well as to CDC. The system was also designed to generate a request for epidemiologic assistance (Epi-Aid) from CDC using a secure, paperless environment.

Epi-X designers have developed functionalities that permit targeting of critical outbreak information to specific public health authorities who can act quickly to prevent the spread of diseases and other emergencies in multi-jurisdictional settings, such as those that could occur during an influenza pandemic, infection of food and water resources, and natural disasters.

CDC has recognized a need to expand the use of Epi-X to collect specific response related information during public health emergencies. Authorized Officials from State and local health departments impacted by the public health incident will be surveyed only by Epi-X. Respondents will be informed of this data collection first through an Epi-X Facilitator, who will work closely with Epi-X program staff to ensure that Epi-X incident specific IC is understood. The survey instruments will contain specific questions relevant to the current and ongoing public health incident and response activities.

The Web-based tool for data collection under Epi-X already is established for the current IC and has been in use since 2003. CDC will adapt it as needed to accommodate the data collection instruments. Respondents will receive the survey instrument as an official CDC e-mail, which is clearly labeled, “Epi-X Emergency Public Health Incident Information Request” The e-mail message will be accompanied by a link to an Epi-X Forum discussion Web page. Respondents can provide their answers to the survey questions by posting information within the discussion.

There are no costs to respondents except their time.

Estimated Annualized Burden Hours
Type of respondent | Number of respondents | Number of responses per respondent | Average burden per response (in hours) | Total burden hours
State Epidemiologists | 50 | 100 | 1 | 5,000
City and County Health Officials | 1,600 | 12 | 1 | 19,200
Total |  |  |  | 24,200

Dated: June 30, 2010.
Maryam I. Daneshvar,
Reports Clearance Officer, Centers for Disease Control and Prevention.

[FR Doc. 2010-16604 Filed 7-7-10; 8:45 am]

BILLING CODE 4163-18-P